DEPARTMENT OF COMMERCE

National Institute of Standards and Technology

Visiting Committee on Advanced Technology

AGENCY: National Institute of Standards and Technology, Department of Commerce.

ACTION: Notice of open meeting.

SUMMARY: The National Institute of Standards and Technology (NIST) Visiting Committee on Advanced Technology (VCAT or Committee) will hold an open in-person meeting on Tuesday, October 28, 2025, from 9:00 a.m. to 5:00 p.m. Eastern Time, and Wednesday, October 29, 2025, from 9:00 a.m. to 1:00 p.m. Eastern Time with a virtual option for VCAT members only to ensure the ability to meet quorum.

DATES: The VCAT will meet on Tuesday, October 28, 2025, from 9:00 a.m. to 5:00 p.m. Eastern Time, and Wednesday, October 29, 2025, from 9:00 a.m. to 1:00 p.m. Eastern Time.

ADDRESSES: The meeting will be held at the National Cybersecurity Center of Excellence, 9700 Great Seneca Highway, Rockville, Maryland 20850 with an option to participate via Zoom for VCAT members only. Please note admittance instructions under the SUPPLEMENTARY INFORMATION section of this notice.

FOR FURTHER INFORMATION CONTACT: Stephanie Shaw, VCAT, NIST, 100 Bureau Drive, Mail Stop 1060, Gaithersburg, Maryland 20899-1060, telephone number 240-446-6000. Ms. Shaw's email address is stephanie.shaw@nist.gov.

SUPPLEMENTARY INFORMATION:

Authority: 15 U.S.C. 278 and the Federal Advisory Committee Act, 5 U.S.C. 1001 et seq.

Pursuant to the Federal Advisory Committee Act, 5 U.S.C. 1001 et seq., notice is hereby given that the VCAT will meet on the dates and at the times given in the DATES section. The meeting will be open to the public. The VCAT is composed of not fewer than nine members appointed by the NIST Director and selected to provide representation of a cross-section of the traditional and emerging United States industries. The primary purpose of this meeting is for the VCAT to review and make recommendations regarding general policy for NIST, its organization, its budget, and its programs within the framework of applicable national policies as set forth by the President and the Congress. The agenda will include an update on major programs and initiatives at NIST, changes within the organization, and the budget. The agenda is subject to change if needed to accommodate Committee business. The final agenda will be posted on the NIST website at https://www.nist.gov/director/vcat/agenda-minutes.

Individuals and representatives of organizations who would like to offer comments and suggestions related to the Committee's business are invited to request a place on the agenda by no later than 5:00 p.m. Eastern Time, Tuesday, October 14, 2025, by contacting Stephanie Shaw at stephanie.shaw@nist.gov. Approximately one-half hour will be reserved for public comments, and speaking times will be assigned on a first-come, first-served basis. The amount of time per speaker will be determined by the number of requests received but is likely to be about 3 minutes each. The exact time and date for public comments will be included in the final agenda that will be posted on the NIST website at https://www.nist.gov/director/vcat/agenda-minutes. Questions from the public will not be considered during this period. Speakers who wish to expand upon their oral statements, those who had wished to speak but could not be accommodated on the agenda, and those who were unable to attend in person are invited to submit written statements to Stephanie Shaw at stephanie.shaw@nist.gov.

All visitors, including NIST staff, to attend the NIST site are required to pre-register to be admitted. Limited space is available on a first-come, first-served basis for anyone who wishes to attend in person. Please submit your name, time of arrival, email address, and phone number to Stephanie Shaw, stephanie.shaw@nist.gov by 5:00 p.m. Eastern Time, Tuesday, October 14, 2025. Non-U.S. citizens must submit additional information; please contact Ms. Shaw at stephanie.shaw@nist.gov. For participants attending in person, please note that federal agencies, including NIST, can only accept a state-issued driver's license or identification card for access to federal facilities if such license or identification card is issued by a state that is compliant with the REAL ID Act of 2005 (Pub. L. 109-13), or by a state that has an extension for REAL ID compliance. NIST currently accepts other forms of federal-issued identification in lieu of a state-issued driver's license. For detailed information please visit: http://nist.gov/public_affairs/visitor/.

Alicia Chambers,
NIST Executive Secretariat.

[FR Doc. 2025-16828 Filed 9-2-25; 8:45 am]

BILLING CODE 3510-13-P